DEPARTMENT OF AGRICULTURE

Forest Service

Southwestern Region, Arizona, New Mexico, West Texas and Oklahoma Proposed 69KV Transmission Line Project on the Camino Real Ranger District, Carson National Forest, Taos County, NM

AGENCY: Forest Service, USDA.

ACTION: Notice of intent to prepare an environmental impact statement.

SUMMARY: Based on a request made by the Kit Carson Electric Cooperative, the Carson National Forest is preparing an environmental impact statement (EIS) to analyze the effects of a proposal to authorize Kit Carson Cooperative to construct, operate and maintain a new 69 KV transmission line and fiber optic system on National Forest Lands from the Talpa substation to Peÿ7Eÿ7Enõasco, New Mexico. The proposal also includes construction, operation and maintenance of a substation in Penõasco and the relocation of a distribution line between Talpa and the Pot Creek residential area. The proposal has several parts, some of which pertain directly to National Forest lands and for which the USDA Forest Service will make the decision. Other portions pertain to private lands, such as the proposed substation in Penõasco, portions of the proposed line on the Picuris Pueblo and the State Highway Department, for which Kit Carson Electric Cooperative will negotiate for approval. The purpose of the project is to improve existing service by reducing voltage fluctuations and the number of outages. It is also to provide fiber optic capabilities to a number of small communities in the Penõasco area.

DATES: The proposed action is currently available for review and comment. It is estimated that the draft environmental impact statement (DEIS) will be completed and distributed for comments by the end of November, 2000. A 45 day comment period will follow. The final environmental impact statement and a record of decision is estimated to be released by the end of July 2001.

ADDRESSES: Copies of the proposed action and DEIS will be available upon request from the Carson Forest Supervisor's Office, 208 Cruz Alta Road, Taos, NM 87571, Attn: Power Line Analysis Team. Comments related to the DEIS can be sent to the same address.

RESPONSIBLE OFFICIAL: The Forest Supervisor, Carson National Forest, is the responsible official and will decide whether or not the project will be implemented on Forest Service lands. If so, the Forest Supervisor will decide where, how and when they will be implemented.

FOR FURTHER INFORMATION CONTACT: Power Line Team Leader, Carson Forest Supervisor's Office (505) 758-6200.

40 CFR 1501.7

Dated: August 23, 2000.
Gilbert Vigil,
Forest Supervisor, Carson National Forest.

[FR Doc. 00-23020 Filed 9-7-00; 8:45 am]

BILLING CODE 3410-11-P